ENVIRONMENTAL PROTECTION AGENCY

[EPA-HQ-RCRA-2015-0147; FRL-9966-76-OLEM]

AES Filing Compliance Date for Hazardous Waste Exports

AGENCY: Environmental Protection Agency (EPA).

ACTION: Notice of announcement of compliance date.

SUMMARY: This action announces that the Automated Export System (AES) filing compliance date for export shipments of hazardous waste and certain other materials is December 31, 2017. Under the “Hazardous Waste Export-Import Revisions” final rule published on November 28, 2016, that became effective on December 31, 2016, Environmental Protection Agency (EPA) provided flexibility to the regulated community by establishing a transition period prior to the required filing of EPA information into the AES for these export shipments. EPA had stated in the final rule that during the transition period, either paper processes or electronic processes at the port could be used until a future AES filing compliance date, which would be announced in a separate Federal Register action. EPA is making this announcement of the AES filing compliance date of December 31, 2017 in this action. On or after this AES filing compliance date, all exporters of manifested hazardous waste, universal waste, and spent lead-acid batteries for recycling or disposal, and all exporters of cathode ray tubes for recycling will be required to file EPA information in the AES or AESDirect for each export shipment. Paper processes will no longer be allowed on or after the compliance date.

DATES: The AES filing compliance date is December 31, 2017.

ADDRESSES: The EPA established a docket for the “Hazardous Waste Export-Import Revisions” under Docket ID No. EPA-HQ-RCRA-2015-0147, which includes this announcement. All documents in the docket are listed on the https://www.regulations.gov Web site. Although listed in the index, some information is not publicly available, e.g., CBI or other information whose disclosure is restricted by statute. Certain other material, such as copyrighted material, is not placed on the Internet and will be publicly available only in hard copy form. Publicly available docket materials are available electronically through https://www.regulations.gov.

FOR FURTHER INFORMATION CONTACT: Laura Coughlan, Materials Recovery and Waste Management Division, Office of Resource Conservation and Recovery (5304P), Environmental Protection Agency, 1200 Pennsylvania Avenue NW., Washington, DC 20460; telephone number: (703) 308-0005; fax number: 703-308-0514; email address: coughlan.laura@epa.gov.

SUPPLEMENTARY INFORMATION:

I. Background

On November 28, 2016, EPA finalized revisions to the Resource Conservation and Recovery Act (RCRA) regulations governing imports and exports of hazardous waste and certain other materials in 40 CFR part 262 (81 FR 85696). These revisions included a stepwise conversion from a paper process for export shipments at the port to an electronic process to fulfill the direction set forth in Executive Order 13659 concerning the electronic management of international trade data by the U.S. Government as part of the International Trade Data System (ITDS).

Under Executive Order 13659, agencies were required to have capabilities, agreements, and other requirements in place by December 31, 2016, to utilize the ITDS and supporting systems, such as the Automated Export System (AES) or its successor system, as the primary means of receiving from users the standard set of data and other relevant documentation (exclusive of applications for permits, licenses, or certifications) required for the release of imported cargo and clearance of cargo for export. The AES resides in the U.S. Customs and Border Protection's (CBP's) Automated Commercial Environment (ACE). With respect to RCRA waste exports subject to consent requirements, EPA's regulatory revisions and CBP's changes to AES were established to utilize electronic processes in AES, or its successor system, in place of existing paper processes at the port or border crossing required to clear export shipments for departure. Currently, exports of hazardous waste, including those eligible for the alternate management standards of 40 CFR part 273 (i.e., universal waste) or 40 CFR part 266 (e.g., spent lead acid batteries being shipped for recycling), and exports of cathode ray tubes for recycling are subject to RCRA consent requirements. EPA's final rule had allowed exporters to choose whether to follow the existing paper process or the new electronic procedure at the border during an initial transition period until the “AES filing compliance date” defined in 40 CFR 260.10, and to be announced in a future Federal Register action.

With this announcement, starting on the AES filing compliance date of December 31, 2017, exporters or their authorized agents will no longer be able to use a paper process, and will have to file certain EPA data in the AES, or its successor system. The data they must file is set forth in 40 CFR 261.39(a)(5)(v)(B) for cathode ray tube exports and in 40 CFR 262.83(a)(6)(ii) for hazardous waste exports. A detailed description of the electronic process is available in Section III.B of the “Hazardous Waste Export-Import Revisions” (81 FR 85696, November 28, 2016) final rule.

II. EPA Outreach

EPA has held three webinars for exporters on how to file the EPA information in AES on January 18, 2017, May 8, 2017, and June 5, 2017. In the May and June webinars, EPA stated that the transition period would end no later than December 31, 2017. Materials and recordings of the May and June webinars are available at https://clu-in.org/conf/tio/AESExporters_050817/ and https://clu-in.org/conf/tio/AESExporters_060517/, respectively. EPA is also reaching out to individual exporters to ensure that all exporters with consent can successfully file the EPA information in AES for their export shipments.

Dated: August 15, 2017.
Barry N. Breen,
Acting Assistant Administrator, Office of Land and Emergency Management.

[FR Doc. 2017-18285 Filed 8-28-17; 8:45 am]

BILLING CODE 6560-50-P